DEPARTMENT OF STATE

[Public Notice 3332]

Bureau of Educational and Cultural Affairs; U.S.-China Youth Exchange Initiative: Pilot Project; Notice: Request for Proposals

SUMMARY: The Youth Programs Division, Office of Citizen Exchanges, of the Bureau of Educational and Cultural Affairs announces an open competition to award one grant for the U.S.-China Youth Exchange Initiative: Pilot Project. Public and private non-profit organizations meeting the provisions described in IRS regulation 26 CFR 1.501(c) may submit proposals for the recruitment and screening of schools, an assessment of communication technology, and the implementation of a pilot project of a reciprocal youth exchange program between secondary schools in the United States and in China. This program will develop linkages between schools and communities in the U.S. and China for the purpose of mutual education and the development of student participation in community affairs.

Program Information

Overview

During a June 1998 visit to China, President Clinton announced a youth exchange program that would link schools and communities in China and the United States. The program has been projected to span three years and to provide funding for the reciprocal exchange of students and teachers from the paired schools. It is in anticipation of this program being enacted in fiscal year 2001 that the Office of Citizen Exchanges offers this opportunity for organizations to apply for an assistance award to pilot a modest school exchange project this year. Expansion beyond the pilot phase is subject to the availability of funding in subsequent fiscal years, as well as to assessments by the Bureau of Educational and Cultural Affairs (ECA) and the U.S. Embassy in Beijing of the desired pace of expansion. The goal is to expand the program incrementally over the next few years.

The focus of the principal program is to link schools and communities in as many provinces of China as possible with schools and communities across the United States and to foster interaction and lasting relationships between these partnered schools through Internet connections and reciprocal student and educator exchanges with strong academic content. Each one-to-one school partnership will choose a theme relevant to their communities; students will work together to complete a joint project related to this theme. Support for Internet connectivity and computer training is also an important component of the program so that the paired schools can communicate throughout the school year and work on these joint projects. The three-to four-week exchange visits to the partner community will involve studying at the host school, working on the thematic project, participating in cultural activities, and spending time with host families. The overarching goals of this program are to support student participation in community affairs and to advance mutual understanding between the youth and teachers of the U.S. and China.

This competition is intended to allow the Youth Programs Division to select the organization that will best be able to establish these linkages and facilitate the joint projects and exchanges. The objectives of this project are (1) to plan for the principal program by recruiting and screening schools, (2) to assess the opportunities for establishing Internet access in the schools, and (3) to develop and implement a pilot partnership that will serve as a model for future development.

The components of the program are as follows:

(1) Planning and Selection

(a) Announce the program to recruit a strong pool of candidate schools and communities in the U.S. and China. Communities should represent the great geographic diversity of each country.

(b) Conduct an open, merit-based competition to screen secondary schools for participation in the principal program. Applicants should be prepared to select approximately 50 schools, or 25 partnerships.

(c) Determine the capacity of the schools to develop lines of communication, especially through the use of the Internet.

(2) Pilot Project

(a) Select a partnership to conduct a pilot exchange program (this will be selected outside of the larger competitive process noted above).

(b) Oversee the communications and project activity between the two schools.

(c) Manage the exchange of 22 participants: nine students and two educators (or one educator and one community member chaperone) from each school will visit the partner school for three to four weeks while the host school is in session.

(d) Monitor and evaluate the pilot project.

Guidelines

The grant will begin on or about November 1, 2000, and conclude 14 months later. The pilot project activity should begin as soon as possible. The exchanges should take place in Fall 2001.

This pilot project will create the foundation for the follow-on program. This project should be designed to best prepare the organization for the implementation of the full program. However, all applicants should be aware that there are no assurances of a specific level of funding for a follow-on program. As is the case with all Bureau exchange programs, actual funding for future activities is contingent upon the Congressional Appropriation and Authorization Process and final availability of funds. Funding to support the initial phase of this project is $98,900. Upon successful implementation of the pilot phase and pending the availability of funds, ECA reserves the right to amend the grant to support future program activities.

As ECA and the U.S. Embassy in Beijing will need to carefully gauge the appropriate rate of growth of this program (in terms of the number of states or provinces, schools, and participants) and future funding is indefinite, ECA requests that applicants create a rank ordered list of the schools that they recruit and screen so that the schools can be approached to participate once the FY-2001 funding level has been determined. ECA expects to work up to the participation of as many as 50 schools over the course of the initiative.

Eligible applicant organizations will have the following:

• Experience working in China;

• A demonstrated track record of conducting youth exchange;

• Experience with managing international institutional linkages and/or experience developing the program content for short-term exchanges;

• An established partnership with an individual or organization based in China or own branch office or representative there; and

• Access to schools in both the United States and China through the partner organization.

Programs must comply with J-1 visa regulations. Please refer to the complete Solicitation Package, which includes the Project Objectives, Guidelines, and Implementation (POGI) and the Proposal Submission Instructions (PSI), for further information.

Budget Guidelines

An initial assistance award for no more than $98,900 will be awarded. Organizations with less than four years of experience in conducting international exchange programs are not eligible for this competition. Applicants must submit a comprehensive budget for the entire program. There must be a summary budget as well as breakdowns reflecting both administrative and program budgets. Applicants may provide separate sub-budgets for each program component, phase, location, or activity to provide clarification.

Please refer to the Solicitation Package for complete budget guidelines and formatting instructions.

Announcement Title and Number

All correspondence with the Bureau concerning this RFP should reference the above title and number ECA/PE/C-00-58.

For Further Information Contact: The Youth Programs Division, ECA/PE/C/PY, Room 568, U.S. Department of State, 301 4th Street, SW, Washington, DC 20547, telephone (202) 619-6299; fax (202) 619-5311; e-mail address: clantz@pd.state.gov to request a Solicitation Package. The Solicitation Package contains detailed award criteria, required application forms, specific budget instructions, and standard guidelines for proposal preparation. Please specify Bureau Program Officer Carolyn Lantz on all other inquiries and correspondence.

Please read the complete Federal Register announcement before sending inquiries or submitting proposals. Once the RFP deadline has passed, Bureau staff may not discuss this competition with applicants until the proposal review process has been completed.

To Download a Solicitation Package Via Internet

The entire Solicitation Package may be downloaded from the Bureau's website at http://exchanges.state.gov/education/rfps. Please read all information before downloading.

Deadline for Proposals

All proposal copies must be received at the Bureau of Educational and Cultural Affairs by 5:00 p.m. Washington, DC time on Friday, July 28, 2000. Faxed documents will not be accepted at any time. Documents postmarked the due date but received on a later date will not be accepted. Each applicant must ensure that the proposals are received by the above deadline.

Applicants must follow all instructions in the Solicitation Package. The original proposal and eight copies of the application should be sent to: U.S. Department of State, Bureau of Educational and Cultural Affairs, Ref.: ECA/PE/C-00-58, Program Management, ECA/EX/PM, Room 336, 301 4th Street, SW, Washington, DC 20547.

Applicants must also submit the “Executive Summary” and “Proposal Narrative” sections of the proposal on a 3.5″ diskette, formatted for DOS. These documents must be provided in ASCII text (DOS) format with a maximum line length of 65 characters. The Bureau will transmit these files electronically to the Public Affairs Section at the U.S. Embassy in Beijing for its review.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Proposals should reflect advancement of this goal in their program contents, to the full extent deemed feasible.

Year 2000 Compliance Requirement (Y2K Requirement)

The Year 2000 (Y2K) issue is a broad operational and accounting problem that could potentially prohibit organizations from processing information in accordance with Federal management and program specific requirements including data exchange with the Bureau. The inability to process information in accordance with Federal requirements could result in grantees being required to return funds that have not been accounted for properly.

The Bureau therefore requires all organizations use Y2K compliant systems including hardware, software, and firmware. Systems must accurately process data and dates (calculating, comparing and sequencing) both before and after the beginning of the year 2000 and correctly adjust for leap years.

Additional information addressing the Y2K issue may be found at the General Services Administration's Office of Information Technology website at http://www.itpolicy.gsa.gov.

Review Process

The Bureau will acknowledge receipt of all proposals and will review them for technical eligibility. Proposals will be deemed ineligible if they do not fully adhere to the guidelines stated herein and in the Solicitation Package. All eligible proposals will be reviewed by the program office, as well as the Public Diplomacy section overseas, where appropriate. Eligible proposals will be forwarded to panels of Bureau officers for advisory review. Proposals may also be reviewed by the Office of the Legal Adviser or by other Department elements. Final funding decisions are at the discretion of the Department of State's Under Secretary for Public Diplomacy and Public Affairs. Final technical authority for assistance awards (grants or cooperative agreements) resides with the Bureau's Grants Officer.

Authority

Overall grant making authority for this program is contained in the Mutual Educational and Cultural Exchange Act of 1961, Public Law 87-256, as amended, also known as the Fulbright-Hays Act. The purpose of the Act is “to enable the Government of the United States to increase mutual understanding between the people of the United States and the people of other countries * * * ; to strengthen the ties which unite us with other nations by demonstrating the educational and cultural interests, developments, and achievements of the people of the United States and other nations * * * and thus to assist in the development of friendly, sympathetic and peaceful relations between the United States and the other countries of the world.” The funding authority for the program above is provided through legislation.

Notice

The terms and conditions published in this RFP are binding and may not be modified by any Bureau representative. Explanatory information provided by the Bureau that contradicts published language will not be binding. Issuance of the RFP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: May 30, 2000.
Evelyn S. Lieberman,
Under Secretary for Public Diplomacy and Public Affairs, U.S. Department of State.

[FR Doc. 00-14361 Filed 6-6-00; 8:45 am]

BILLING CODE 4710-11-P